DEPARTMENT OF THE INTERIOR

Fish and Wildlife Service

[FWS-R8-ES-2011-N143; 1112-0000-81420-F2]

Proposed Low-Effect Habitat Conservation Plan for the California Tiger Salamander, AT&T Portable Generator Storage Facility, Yolo County, CA

AGENCY: Fish and Wildlife Service, Interior.

ACTION: Notice of availability; request for comment.

SUMMARY: We, the U. S. Fish and Wildlife Service, have received an application from the AT&T Services, Inc. (applicant) for a 10-year incidental take permit under the Endangered Species Act of 1973, as amended (Act). The application addresses the potential for “take” of one Federally listed animal, the California tiger salamander. The applicant would implement a conservation program to minimize and mitigate the project activities, as described in applicant's low-effect habitat conservation plan (Plan). We request comments on the applicant's application and plan, and the preliminary determination that the plan qualifies as a “low-effect” habitat conservation plan, eligible for a Categorical Exclusion under the National Environmental Policy Act of 1969, as amended (NEPA). We discuss our basis for this determination in our environmental action statement (EAS), also available for public review.

DATES: We must receive written comments on or before August 22, 2011.

ADDRESSES: Please address written comments to Jason Hanni, Fish and Wildlife Biologist, Fish and Wildlife Service, Sacramento Fish and Wildlife Office, 2800 Cottage Way, W-2605, Sacramento, CA 95825. Alternatively, you may send comments by facsimile to (916) 414-6713.

FOR FURTHER INFORMATION CONTACT: Mike Thomas, Chief, Conservation Planning Division, or Eric Tattersall, Deputy Assistant Field Supervisor/Division Chief, Conservation Planning and Recovery, at the address shown above or at (916) 414-6600 (telephone).

SUPPLEMENTARY INFORMATION:

Availability of Documents

You may obtain copies of the permit application, plan, and EAS from the individuals in FOR FURTHER INFORMATION CONTACT. Copies of these documents are available for public inspection, by appointment, during regular business hours, at the Sacramento Fish and Wildlife Office (see ADDRESSES).

Public Availability of Comments

Before including your address, phone number, e-mail address, or other personal identifying information in your comment, you should be aware that your entire comment—including your personal identifying information—may be made publicly available at any time. While you can ask us in your comment to withhold your personal identifying information from public review, we cannot guarantee that we will be able to do so.

Background Information

Section 9 of the Act (16 U.S.C. 1531 et seq.) and its implementing Federal regulations prohibit the “take” of fish or wildlife species listed as endangered or threatened. “Take” is defined under the Act to include the following activities: To harass, harm, pursue, hunt, shoot, wound, kill, trap, capture or collect listed animal species, or to attempt to engage in such conduct. However, under section 10(a)(1)(B) of the Act, we may issue permits to authorize incidental take of listed species. “Incidental take” is defined by the Act as take that is incidental to, and not the purpose of, carrying out an otherwise lawful activity. Regulations governing incidental take permits for endangered and threatened species, respectively, are in the Code of Federal Regulations (CFR) at 50 CFR 17.22 and 50 CFR 17.32. All species included in the incidental take permit would receive assurances under our “No Surprises” regulations (50 CFR 17.22(b)(5) and 17.32(b)(5)).

The applicant seeks an incident take permit for indirect effects within 1.57 acres (1.24 acres permanent, plus 0.33 acres temporary) of grasslands associated with the construction of a portable generator storage facility located at 26120 County Road 6, Dunnigan, CA 95937, in Yolo County, California. AT&T would permanently convert 1.24 acres of upland grassland habitat for the California tiger salamander into a new storage facility for portable generators within the undeveloped portion of a 45-acre parcel. The Applicant currently owns and manages the 45-acre parcel, including an existing cellular communications facility. The applicant is requesting a permit for take of one animal species Federally listed as threatened: The Central Distinct Population Segment (DPS) of the California tiger salamander (Ambystoma californiense) (salamander, or “Covered Species”).

The following action is proposed as the “Covered Activities” under the plan: Construction of the portable generator storage facility in order to store portable generators. The storage facility consists of a metal building, with approximate dimensions of 100 feet 6 inches by 251 feet, immediately north and adjacent to the existing paved surface, to allow on-site storage of 50 portable 40-kw diesel generators and 175 portable 5-kw diesel generators. These 225 generators would be stored on trailers, but would not be connected to a power source. The building, which would have an east-west orientation, would include vertical support columns spaced 25 feet apart on center along the 251-foot dimension and at each corner, to support the roof. There would be open sidewalls to allow trailers to be easily moved in and out by forklifts or similar equipment. A 45-foot-wide asphalt driveway would surround the building on all four sides to provide access to the building by forklifts. The storage facility would be located within a 45-acre parcel along side an existing telecommunications facility. The existing telecommunications facility occupies approximately 9 acres and includes several concrete buildings surrounded by a paved asphalt parking lot, storm water detention ponds, and an existing telecommunications array. The undeveloped portion of the 45-acre parcel (approximately 36 acres) consists mainly of disturbed annual grassland that is currently used for grazing. Three adult salamanders were observed on the developed portion of the AT&T facility on October 25 and 29, 2010. In addition, several salamander larvae were observed in the seasonal wetland, west of the developed portion of the project site, on April 15 and 30, 2011.

The applicant proposes to avoid, minimize, and mitigate the effects to the Covered Species associated with the Covered Activities by fully implementing the Plan. The following mitigation measures will be implemented:

• Purchase of 3.72 upland salamander credits at a Service-approved conservation bank;

• Installation of exclusion fencing during the winter of 2011 with regular monitoring;

• Relocation of any salamanders trapped within the work zone to a safe area outside the development area;

• Mowing of all grassland vegetation within the project footprint prior to any grading, in order to uncover potential burrows that may be in use by salamanders;

• Survey of all potential burrows and crevices within the construction footprint, and hand excavation of any salamanders observed within these burrows;

• Environmental awareness training to all workers;

• Prohibition of night construction activities;

• Restricted speed limits on the main access road to less than 15 miles per hour during the salamander migration season;

• Implementation of standard erosion-control measures around seasonal wetlands down slope of the construction site; and

• Presence of an available qualified individual on site during the initial stages of construction and earthmoving activities to handle and relocate salamanders if any are found.

Alternatives

Our proposed action is approving the applicant's plan and issuing an incidental take permit for the applicant's Covered Activities. As required by the Act, the applicant's plan considers alternatives to the take under the proposed action. The plan considers the environmental consequences of three alternatives to the proposed action: A No Action alternative, an Alternative Configuration Alternative, and an Off-Site Alternative.

Under the No Action Alternative, we would not issue a permit, and the emergency generator storage facility would not be constructed. The proposed building site would remain undeveloped, although it lies immediately adjacent to the developed portion of the existing facility. AT&T would not be able to store all needed portable generators at this facility, which would result in delays in restoring telecommunications systems following a disaster. For these reasons, the No-Action Alternative has been rejected.

The Alternative Configuration Alternative would have involved approximately 600 cubic yards (cy) of cut and 6,200 cy of fill, requiring the import of 5,600 cy of soil. This alternative would have resulted in greater impacts to the salamander over the Proposed Action, and was therefore rejected.

Under the Off-Site Alternative, AT&T considered construction of the storage facility at three other sites in northern California. These include sites in Rocklin, Manteca, and Richmond, California. Both the Rocklin and Manteca sites were rejected due to the presence of other Federally listed species, including vernal pool fairy shrimp (Branchinecta lynchi) and California red legged frog (Rana draytonii), which have more restricted ranges than the salamander. AT&T had previously proposed plans for a fleet yard on the Richmond property; however, these were denied by local agencies due to noise and traffic concerns, making it likely that the Proposed Action would also be rejected. In addition, the Richmond site is not as centrally located as the Dunnigan property. For these reasons the Off-Site Alternative was rejected.

Under the proposed action alternative, we would issue an incidental take permit for the applicant's proposed project, which includes the activities described above and in more detail in the Plan. The proposed project is expected to result in the permanent loss of 1.24 acres of upland grassland habitat and temporary loss of 0.33 acres of grassland habitat for the California tiger salamander. To mitigate these effects, the applicant proposes to purchase 3.72 upland salamander credits at a Service-approved conservation bank.

National Environmental Policy Act

As described in our EAS, we have made the preliminary determination that approval of the proposed plan and issuance of the permit would qualify as a categorical exclusion under NEPA (42 U.S.C. 4321 et seq.), as provided by Federal regulations (40 CFR Part 1500, 5(k), 1507.3(b)(2), 1508.4) and the Department of the Interior Manual (516 DM 2 and 516 DM 8). Our EAS found that the proposed plan qualifies as a “low-effect” habitat conservation plan, as defined by our Habitat Conservation Planning Handbook (November 1996). Determination of low-effect habitat conservation plans is based on the following three criteria: (1) Implementation of the proposed plan would result in minor or negligible effects on Federally listed, proposed, and candidate species and their habitats; (2) implementation of the proposed plan would result in minor or negligible effects on other environmental values or resources; and (3) impacts of the plan, considered together with the impacts of other past, present, and reasonably foreseeable similarly situated projects, would not result, over time, in cumulative effects to environmental values or resources that would be considered significant. Based upon the preliminary determinations in the EAS, we do not intend to prepare further NEPA documentation. We will consider public comments when making the final determination on whether to prepare an additional NEPA document on the proposed action.

Public Review

We provide this notice pursuant to section 10(c) of the Act and the NEPA public-involvement regulations (40 CFR 1500.1(b), 1500.2(d), and 1506.6). We will evaluate the permit application, including the plan and comments we receive, to determine whether the application meets the requirements of section 10(a) of the Act. If the requirements are met, we will issue a permit to the applicant for the incidental take of the Central Distinct Population Segment (DPS) of the California tiger salamander from the implementation of the Covered Activities described in the Low-effect Habitat Conservation Plan, for the California tiger salamander, for the AT&T Portable Generator Storage Facility, Yolo County, California. We will make the final permit decision no sooner than 30 days after the date of this notice.

Dated: July 15, 2011.
Susan K. Moore,
Field Supervisor, Sacramento Fish and Wildlife Office, Sacramento, California.

[FR Doc. 2011-18509 Filed 7-21-11; 8:45 am]

BILLING CODE 4310-55-P